DEPARTMENT OF LABOR

Employment and Training Administration

[TA-W-55,287]

Marconi, Toccoa, GA; Notice of Termination of Investigation

Pursuant to Section 221 of the Trade Act of 1974, as amended, an investigation was initiated on July 21, 2004, in response to a petition filed by the company on behalf of workers at Marconi, Toccoa, Georgia.

The petitioner has requested that the petition be withdrawn. Consequently, further investigation in this case would serve no purpose, and the investigation has been terminated.

Signed at Washington, DC, this 29th day of July, 2004.
Elliott S. Kushner,
Certifying Officer, Division of Trade Adjustment Assistance.

[FR Doc. 04-18336 Filed 8-10-04; 8:45 am]

BILLING CODE 4510-30-P